DEPARTMENT OF TRANSPORTATION

Federal Aviation Administration

14 CFR Part 39

[Docket No. FAA-2019-0327; Product Identifier 2019-NM-021-AD]

RIN 2120-AA64

Airworthiness Directives; Bombardier, Inc., Airplanes

AGENCY: Federal Aviation Administration (FAA), DOT.

ACTION: Notice of proposed rulemaking (NPRM).

SUMMARY: We propose to adopt a new airworthiness directive (AD) for certain Bombardier, Inc., Model CL-600-2B19 (Regional Jet Series 100 & 440); Model CL-600-2C10 (Regional Jet Series 700, 701 & 702); Model CL-600-2D15 (Regional Jet Series 705); Model CL-600-2D24 (Regional Jet Series 900); and Model CL-600-2E25 (Regional Jet Series 1000) airplanes. This proposed AD was prompted by reports of incorrect deployment of forward and aft flight attendant oxygen masks. This proposed AD would require repacking the flight attendant and lavatory oxygen box assemblies as applicable, replacing the placards, and re-identifying the assemblies. We are proposing this AD to address the unsafe condition on these products.

DATES: We must receive comments on this proposed AD by July 26, 2019.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this NPRM, contact Bombardier, Inc., 400 Côte-Vertu Road West, Dorval, Québec H4S 1Y9, Canada; Widebody Customer Response Center North America toll-free telephone 1-866-538-1247 or direct-dial telephone 1-514-855-2999; fax 514-855-7401; email ac.yul@aero.bombardier.com; internet http://www.bombardier.com. You may view this service information at the FAA, Transport Standards Branch, 2200 South 216th St., Des Moines, WA. For information on the availability of this material at the FAA, call 206-231-3195.

Examining the AD Docket

You may examine the AD docket on the internet at http://www.regulations.gov by searching for and locating Docket No. FAA-2019-0327; or in person at Docket Operations between 9 a.m. and 5 p.m., Monday through Friday, except Federal holidays. The AD docket contains this NPRM, the regulatory evaluation, any comments received, and other information. The street address for Docket Operations (phone: 800-647-5527) is listed above. Comments will be available in the AD docket shortly after receipt.

FOR FURTHER INFORMATION CONTACT: Darren Gassetto, Aerospace Engineer, Mechanical Systems and Administrative Services Section, FAA, New York ACO Branch, 1600 Stewart Avenue, Suite 410, Westbury, NY 11590; telephone 516-228-7323; fax 516-794-5531; email 9-avs-nyaco-cos@faa.gov.

SUPPLEMENTARY INFORMATION:

Comments Invited

We invite you to send any written relevant data, views, or arguments about this proposal. Send your comments to an address listed under the ADDRESSES section. Include “Docket No. FAA-2019-0327; Product Identifier 2019-NM-021-AD” at the beginning of your comments. We specifically invite comments on the overall regulatory, economic, environmental, and energy aspects of this NPRM. We will consider all comments received by the closing date and may amend this NPRM because of those comments.

We will post all comments we receive, without change, to http://www.regulations.gov, including any personal information you provide. We will also post a report summarizing each substantive verbal contact we receive about this NPRM.

Discussion

Transport Canada Civil Aviation (TCCA), which is the aviation authority for Canada, has issued Canadian AD CF-2018-03, dated January 19, 2018 (referred to after this as the Mandatory Continuing Airworthiness Information, or “the MCAI”), to correct an unsafe condition for certain Model CL-600-2B19 (Regional Jet Series 100 & 440); Model CL-600-2C10 (Regional Jet Series 700, 701 & 702); Model CL-600-2D15 (Regional Jet Series 705); Model CL-600-2D24 (Regional Jet Series 900); and Model CL-600-2E25 (Regional Jet Series 1000) airplanes. The MCAI states:

After an in-service cabin oxygen masks deployment on a CL-600-2D24 aeroplane, the crew noted that the forward and aft flight attendant oxygen masks did not deploy correctly. The oxygen hoses were tangled with the pull lanyard and cordage from the oxygen box assemblies. Investigation found the same condition on other aeroplanes. The similarly designed lavatory oxygen box assembly is also affected. It was determined that packing instructions for these oxygen box assemblies were incorrect. If not corrected, inappropriately packed oxygen box assemblies resulting in incorrectly deployed oxygen masks can cause occupant distress and delayed access to oxygen supply during a high altitude emergency.

This [Canadian] AD mandates the repacking of the forward flight attendant, aft flight attendant, and lavatory oxygen box assemblies [as applicable] and the installation of a revised packaging placard.

You may examine the MCAI in the AD docket on the internet at http://www.regulations.gov by searching for and locating Docket No. FAA-2019-0327.

Related Service Information Under 1 CFR Part 51

Bombardier has issued the following service information:

• Service Bulletin 601R-35-021, dated October 30, 2017, which describes procedures for repacking the lavatory oxygen box assembly, replacing the placards, and re-identifying the assembly.

• Service Bulletin 670BA-35-015, dated October 30, 2017, which describes procedures for repacking the flight attendant and lavatory oxygen box assemblies, replacing the placards, and re-identifying the assemblies.

These documents are distinct since they apply to different airplane models. This service information is reasonably available because the interested parties have access to it through their normal course of business or by the means identified in the ADDRESSES section.

FAA's Determination

This product has been approved by the aviation authority of another country, and is approved for operation in the United States. Pursuant to our bilateral agreement with the State of Design Authority, we have been notified of the unsafe condition described in the MCAI and service information referenced above. We are proposing this AD because we evaluated all the relevant information and determined the unsafe condition described previously is likely to exist or develop on other products of the same type design.

Proposed Requirements of This NPRM

This proposed AD would require accomplishing the actions specified in the service information described previously.

Costs of Compliance

We estimate that this proposed AD affects 539 airplanes of U.S. registry. We estimate the following costs to comply with this proposed AD:

Estimated Costs for Required Actions
Labor cost | Parts cost | Cost per product | Cost on U.S. operators
5 work-hours × $85 per hour = $425 | $100 | $525 | $282,975

According to the manufacturer, some or all of the costs of this proposed AD may be covered under warranty, thereby reducing the cost impact on affected individuals. We do not control warranty coverage for affected individuals. As a result, we have included all known costs in our cost estimate.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This proposed AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Bombardier, Inc.: Docket No. FAA-2019-0327; Product Identifier 2019-NM-021-AD.

(a) Comments Due Date

We must receive comments by July 26, 2019.

(b) Affected ADs

None.

(c) Applicability

This AD applies to Bombardier, Inc., airplanes, certificated in any category, identified in paragraphs (c)(1) through (c)(4) of this AD.

(1) Model CL-600-2B19 (Regional Jet Series 100 & 440), serial numbers (S/N) 7003 and subsequent.

(2) Model CL-600-2C10 (Regional Jet Series 700, 701 & 702), S/N 10003 and subsequent.

(3) Model CL-600-2D15 (Regional Jet Series 705) and Model CL-600-2D24 (Regional Jet Series 900), S/N 15001 and subsequent.

(4) Model CL-600-2E25 (Regional Jet Series 1000), S/N 19001 and subsequent.

(d) Subject

Air Transport Association (ATA) of America Code 35, Oxygen.

(e) Reason

This AD was prompted by reports of incorrect deployment of the forward and aft flight attendant oxygen masks. We are issuing this AD to address incorrect packing of the flight attendant and lavatory oxygen box assemblies, which could result in incorrectly deployed oxygen masks, and cause occupant distress and delayed access to oxygen supply during a high altitude emergency.

(f) Compliance

Comply with this AD within the compliance times specified, unless already done.

(g) Repacking and Modification of Oxygen Box Assemblies

(1) For Model CL-600-2B19 airplanes equipped with oxygen box assembly part number (P/N) 3868301 or 3868302 with C&D Zodiac Aerospace Service Bulletin 3868303-25-A-01 installed, or P/N 3868303: Within 8,800 flight hours or 48 months, whichever is first, after the effective date of this AD, repack the assembly, replace the packaging placard, and re-identify the assembly, in accordance with paragraphs 2.A. and 2.B. of the Accomplishment Instructions of Bombardier Service Bulletin 601R-35-021, dated October 30, 2017.

(2) For airplane Model CL-600-2C10, S/N 10003 through 10346 inclusive; Models CL-600-2D15 and CL-600-2D24, S/N 15001 through 15436 inclusive; and Model CL-600-2E25, S/N 19001 through 19055 inclusive; equipped with oxygen box assembly P/N 9324601[ ]505/507/509/511, 9324614[ ]505/509, D114601[ ]501/503/505/507/509, D114602[ ]503/507/511, or D114603[ ]501 (where “[ ]” indicates the décor finish code letters): Within 8,800 flight hours or 48 months, whichever is first, after the effective date of this AD, repack the assembly, replace the packaging placard, and re-identify the assembly in accordance with paragraphs 2.A. and 2.B. of the Accomplishment Instructions of Bombardier Service Bulletin 670BA-35-015, dated October 30, 2017.

(h) Operational Limitation

For Model CL-600-2C10, CL-600-2D15, CL-600-2D24, and CL-600-2E25 airplanes: After accomplishment of the actions required by paragraph (g)(2) of this AD, if applicable, or within 30 days after the effective date of this AD, whichever is later, no one may operate any airplane with oxygen box assemblies packed using Bombardier Aircraft Maintenance Manual (AMM) task 35-21-13-860-802, “Repack and Stowage of the Flight Attendant Oxygen Mask,” or 35-21-17-860-802, “Repack of the Passenger Mask in the Lavatory.”

Note 1 to paragraph (h): The AMM tasks identified in paragraph (h) of this AD have been superseded by AMM tasks 35-21-13-860-804, “Repack and Stowage of the Forward and Aft Flight Attendant Oxygen-Mask,” 35-21-13-860-806, “Repack and Stowage of the Third Flight Attendant Oxygen-Mask,” and 35-21-17-860-803, “Repack of the Passenger Mask in the Lavatory.”

(i) Other FAA AD Provisions

The following provisions also apply to this AD:

(1) Alternative Methods of Compliance (AMOCs): The Manager, New York ACO Branch, FAA, has the authority to approve AMOCs for this AD, if requested using the procedures found in 14 CFR 39.19. In accordance with 14 CFR 39.19, send your request to your principal inspector or local Flight Standards District Office, as appropriate. If sending information directly to the manager of the certification office, send it to ATTN: Program Manager, Continuing Operational Safety, FAA, New York ACO Branch, 1600 Stewart Avenue, Suite 410, Westbury, NY 11590; telephone 516-228-7300; fax 516-794-5531. Before using any approved AMOC, notify your appropriate principal inspector, or lacking a principal inspector, the manager of the local flight standards district office/certificate holding district office.

(2) Contacting the Manufacturer: For any requirement in this AD to obtain corrective actions from a manufacturer, the action must be accomplished using a method approved by the Manager, New York ACO Branch, FAA; or Transport Canada Civil Aviation (TCCA); or Bombardier, Inc.'s TCCA Design Approval Organization (DAO). If approved by the DAO, the approval must include the DAO-authorized signature.

(j) Related Information

(1) Refer to Mandatory Continuing Airworthiness Information (MCAI) Canadian AD CF-2018-03, dated January 19, 2018, for related information. This MCAI may be found in the AD docket on the internet at http://www.regulations.gov by searching for and locating Docket No. FAA-2019-0327.

(2) For more information about this AD, contact Darren Gassetto, Aerospace Engineer, Mechanical Systems and Administrative Services Section, FAA, New York ACO Branch, 1600 Stewart Avenue, Suite 410, Westbury, NY 11590; telephone 516-228-7323; fax 516-794-5531; email 9-avs-nyaco-cos@faa.gov.

(3) For service information identified in this AD, contact Bombardier, Inc., 400 Côte-Vertu Road West, Dorval, Québec H4S 1Y9, Canada; Widebody Customer Response Center North America toll-free telephone 1-866-538-1247 or direct-dial telephone 1-514-855-2999; fax 514-855-7401; email ac.yul@aero.bombardier.com; internet http://www.bombardier.com. You may view this service information at the FAA, Transport Standards Branch, 2200 South 216th St., Des Moines, WA. For information on the availability of this material at the FAA, call 206-231-3195.

Issued in Des Moines, Washington, on May 29, 2019.
Michael Kaszycki,
Acting Director, System Oversight Division, Aircraft Certification Service.

[FR Doc. 2019-11831 Filed 6-10-19; 8:45 am]

BILLING CODE 4910-13-P